DEPARTMENT OF COMMERCE

International Trade Administration

[A-357-818]

Lemon Juice From Argentina: Continuation of Suspension of Antidumping Duty Investigation

AGENCY: Enforcement and Compliance, International Trade Administration, Department of Commerce.

SUMMARY: As a result of the respective determinations by the U.S. Department of Commerce (Commerce) and the U.S. International Trade Commission (ITC) that termination of the 2016 Agreement Suspending the Antidumping Duty Investigation on Lemon Juice from Argentina (2016 Agreement) and the underlying antidumping duty investigation on lemon juice from Argentina would likely lead to continuation or recurrence of dumping and material injury to an industry in the United States, Commerce is publishing this notice of continuation of the 2016 Agreement.

DATES: Applicable September 9, 2022.

FOR FURTHER INFORMATION CONTACT: Sally C. Gannon or Jill Buckles, Bilateral Agreements Unit, Enforcement and Compliance, International Trade Administration, U.S. Department of Commerce, 1401 Constitution Avenue NW, Washington, DC 20230, telephone: (202) 482-0162 or (202) 482-6230, respectively.

SUPPLEMENTARY INFORMATION:

Background

On October 20, 2016, Commerce and substantially all producers/exporters of lemon juice from Argentina signed the 2016 Agreement.¹ On September 1, 2021, Commerce initiated,² and the ITC instituted,³ the second sunset review of the suspended antidumping duty investigation on lemon juice from Argentina, pursuant to section 751(c) of the Tariff Act of 1930, as amended (the Act). As a result of its review, pursuant to sections 751(c) and 752 of the Act, Commerce determined that termination of the 2016 Agreement and suspended antidumping duty investigation on lemon juice from Argentina would likely lead to a continuation or recurrence of dumping and notified the ITC of the magnitude of the margins likely to prevail, should the 2016 Agreement be terminated.⁴ On September 2, 2022, pursuant to section 751(c) of the Act, the ITC published its determination that termination of the suspended antidumping duty investigation on lemon juice from Argentina would be likely to lead to continuation or recurrence of material injury to an industry in the United States within a reasonably foreseeable time.⁵

¹ See Lemon Juice from Argentina: Continuation of Suspension of Antidumping Investigation, 81 FR 74395 (October 26, 2016).

² See Initiation of Five-Year (Sunset) Reviews, 86 FR 48983 (September 1, 2021).

³ See Lemon Juice from Argentina; Institution of a Five-Year Review, 86 FR 49054 (September 1, 2021).

⁴ See 2016 Agreement Suspending the Antidumping Duty Investigation on Lemon Juice from Argentina; Final Results of the Expedited Second Sunset Review of the Suspension Agreement, 87 FR 215 (January 4, 2022).

⁵ See Lemon Juice from Argentina, 87 FR 54263 (September 2, 2022) (Investigation No. 731-TA-1105 (Second Review)).

Scope of the 2016 Agreement

The product covered by the 2016 Agreement is lemon juice for further manufacture, with or without addition of preservatives, sugar, or other sweeteners, regardless of the GPL (grams per liter of citric acid) level of concentration, brix level, brix/acid ratio, pulp content, clarity, grade, horticulture method (e.g., organic or not), processed form (e.g., frozen or not-from-concentrate), FDA standard of identity, the size of the container in which packed, or the method of packing.

Excluded from the scope are: (1) Lemon juice at any level of concentration packed in retail-sized containers ready for sale to consumers, typically at a level of concentration of 48 GPL; and (2) beverage products such as lemonade that typically contain 20% or less lemon juice as an ingredient.

Lemon juice is classifiable under subheadings 2009.39.6020, 2009.31.6020, 2009.31.4000, 2009.31.6040, and 2009.39.6040 of the Harmonized Tariff Schedule of the United States (HTSUS). While HTSUS subheadings are provided for convenience and customs purposes, our written description of the scope of the 2016 Agreement is dispositive.

Continuation of Suspension of Investigation

As a result of the respective determinations by Commerce and the ITC that termination of the 2016 Agreement and suspended antidumping duty investigation on lemon juice from Argentina would likely lead to continuation or recurrence of dumping and material injury to an industry in the United States, consistent with section 751(d)(2) of the Act, Commerce hereby gives notice of the continuation of the 2016 Agreement. The effective date of continuation will be the date of publication in the Federal Register of this notice of continuation. Pursuant to section 751(c)(2) of the Act and 19 CFR 351.218(c)(2), Commerce intends to initiate the next five-year review of the 2016 Agreement not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

This five-year (sunset) review and notice are in accordance with section 751(c) of the Act and published pursuant to section 777(i)(1) of the Act and 19 CFR 351.218(f)(4).

Dated: September 2, 2022.
Lisa W. Wang,
Assistant Secretary for Enforcement and Compliance.

[FR Doc. 2022-19523 Filed 9-8-22; 8:45 am]

BILLING CODE 3510-DS-P